DEPARTMENT OF VETERANS AFFAIRS

Veterans' Disability Benefits Commission; Notice of Meeting

The Department of Veterans Affairs (VA) gives notice under Public Law 92-463 (Federal Advisory Committee Act) that the Veterans' Disability Benefits Commission has scheduled a town hall meeting for May 10, 2006, at the Sheraton St. Louis City Center Hotel & Suites, The Colonnade Ballroom, 400 South 14th Street, St. Louis, Missouri. The town hall meeting will begin at 7 p.m. and end at 9 p.m. The meeting is open to the public.

The purpose of the Commission is to carry out a study of the benefits under the laws of the United States that are provided to compensate and assist veterans and their survivors for disabilities and deaths attributable to military service.

The Commission is conducting the fourth of eight fact-finding site visits throughout the United States. The St. Louis area was selected based on criteria that include the concentration of veterans, active-duty service personnel, and members of the National Guard and Reserves. Those criteria also include the location of Veterans Benefits Administration, Veterans Health Administration, and Department of Defense (DoD) facilities with particular interest in transition activities. The goal of this visit is to allow the commissioners the opportunity to tour local VA and DoD facilities; examine the processes in place which assist disabled veterans, service members, and survivors in their efforts to obtain benefits; and present these individuals and the general public with an opportunity to learn about the work of the Commission and to offer comments in face-to-face forums.

Interested persons may attend the meeting and present oral statements to the Commission. Oral presentations will be limited to five minutes or less, depending on the number of participants. Interested parties may provide written comments for review by the Commission prior to the meeting or at any time, by e-mail to veterans@vetscommission.intranets.com or by mail to Mr. Ray Wilburn, Executive Director, Veterans' Disability Benefits Commission, 1101 Pennsylvania Avenue, NW., 5th Floor, Washington, DC 20004.

Dated: April 14, 2006.
E. Philip Riggin,
Committee Management Officer.

[FR Doc. 06-3752 Filed 4-19-05; 8:45am]

BILLING CODE 8320-01-M